DEPARTMENT OF THE INTERIOR

Bureau of Indian Affairs

Indian Gaming

AGENCY: Bureau of Indian Affairs, Interior.

ACTION: Notice of approved Tribal—State Compact.

SUMMARY: This notice publishes approval of the Tribal—State Compact between the State of New Mexico and the Pueblo of Pojoaque.

DATES: Effective Date: August 25, 2005.

FOR FURTHER INFORMATION CONTACT: George T. Skibine, Director, Office of Indian Gaming Management, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of the approved Tribal-State Compacts for the purpose of engaging in Class III gaming activities on Indian lands. This Compact authorizes the Pueblo of Pojoaque of New Mexico to engage in certain Class III gaming activities on Indian lands. This compact is identical to the other New Mexico compacts that were approved by the Department in 2001.

Dated: August 16, 2005.
Michael D. Olsen,
Acting Principal Deputy Assistant Secretary—Indian Affairs.

[FR Doc. 05-16943 Filed 8-24-05; 8:45 am]

BILLING CODE 4310-4N-P